DEPARTMENT OF HEALTH AND HUMAN SERVICES

Administration for Children and Families

Submission for Office of Management and Budget Review; Administration of Psychotropic Medication to Unaccompanied Children (New Collection)

AGENCY: Office of Refugee Resettlement, Administration for Children and Families, U.S. Department of Health and Human Services.

ACTION: Request for public comments.

SUMMARY: The Office of Refugee Resettlement (ORR), Administration for Children and Families (ACF), U.S. Department of Health and Human Services is inviting public comment on the proposed collection. The request consists of two forms that will allow the Unaccompanied Children (UC) Bureau to obtain informed consent from authorized consenters and informed assent or agreement from unaccompanied children for the administration of psychotropic medication.

DATES: Comments due December 16, 2024. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The ORR UC Bureau is proposing two new forms: Psychotropic Medication Informed Consent (Form MMH-1) and Psychotropic Medication Assent Notice (Form MMH-2). The proposed information collection is necessary to allow the ORR UC Bureau to comply with a court order and improve processes for the administration of psychotropic medication. On June 29, 2018, Plaintiffs filed their Federal class action lawsuit in the Central District of California, western division, captioned Lucas R. et al. v. Becerra et al. (Case No. 2:18-CV-05741 DMG PLA), asserting claims under the Flores consent decree, the Trafficking Victims Protection Reauthorization Act, the Due Process clause, and the First Amendment. Plaintiffs allege violation of unaccompanied children rights in decisions regarding family reunification, placement in restrictive facilities, services for children with disabilities, administration of psychotropic medication, and access to legal assistance. On May 3, 2024, the Court granted final approval for the settlement agreements of the Plaintiffs' claims for disabilities, psychotropic medication, and legal assistance. As part of the settlement agreement for the psychotropic medication claim, ORR is required, whenever possible, to obtain informed consent for the administration of psychotropic medication and provide certain information to the authorized consenter. Additionally, ORR is required to provide a written notice and obtain informed assent or agreement from children aged 14 or older before administering psychotropic medication. The psychotropic medication settlement agreement must be fully implemented by August 3, 2026, but data collection must be implemented by February 3, 2025, to ensure compliance with the Agreement.

Respondents: Care provider grantees and contractors.

Annual Burden Estimates
Form | Annual number of respondents | Number of responses per respondent | Average burden hours per response | Total annual burden hours
Psychotropic Medication Informed Consent (Form MMH-1) | 300 | 2 | 1.50 | 900
Psychotropic Medication Assent Notice (Form MMH-2) | 300 | 1 | 0.75 | 225

Estimated Total Annual Burden Hours: 1,125.

Authority: 6 U.S.C. 279; 8 U.S.C. 1232; 45 CFR part 410; Flores v. Reno Settlement Agreement, No. CV85-4544-RJK (C.D. Cal. 1996); Lucas R. et al. v. Becerra et al. (Case No. 2:18-CV-05741 DMG PLA) Psychotropic Medication Settlement Agreement.

Mary C. Jones,
ACF/OPRE Certifying Officer.

[FR Doc. 2024-26690 Filed 11-14-24; 8:45 am]

BILLING CODE 4184-45-P